NUCLEAR REGULATORY COMMISSION

[EA-15-006; NRC-2015-0201]

In the Matter of BWXT Nuclear Operations Group, Inc.

AGENCY: Nuclear Regulatory Commission.

ACTION: Confirmatory order; issuance.

SUMMARY: The U.S. Nuclear Regulatory Commission (NRC) is issuing a confirmatory order to BWXT Nuclear Operations Group, Inc. (BWXT NOG), confirming a modification to the license issued on August 10, 2015. In issuing the Order, BWXT NOG must comply with the measures detailed in Section IV of the Order. This Order is effective 20 days after the date it is issued.

DATES: The confirmatory order was signed August 10, 2015.

ADDRESSES: Please refer to Docket ID NRC-2015-0201 when contacting the NRC about the availability of information regarding this document. You may obtain publicly-available information related to this action by the following methods:

• Federal Rulemaking Web site: Go to http://www.regulations.gov and search for Docket ID NRC-2015-0201. Address questions about NRC dockets to Carol Gallagher; telephone: 301-415-3463; email: Carol.Gallagher@nrc.gov. For questions about this Order, contact the individual listed in the FOR FURTHER INFORMATION CONTACT section of this document.

• NRC's Agencywide Documents Access and Management System (ADAMS): You may access publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Merritt Baker, telephone: 301-415-7119, email Merritt.Baker@nrc.gov, Office of Nuclear Material Safety and Safeguards, U.S. Nuclear Regulatory Commission, Washington, DC 20555-0001.

SUPPLEMENTARY INFORMATION: The text of the Order is attached.

Dated at Rockville, Maryland, this 27th day of August, 2015.
For the Nuclear Regulatory Commission.
Craig Erlanger,
Deputy Director, Division of Fuel Cycle Safety, Safeguards, and Environmental Review Office of Nuclear Material Safety and Safeguards.

Attachment—CONFIRMATORY ORDER

UNITED STATES OF AMERICA

NUCLEAR REGULATORY COMMISSION

In the Matter of BWXT Nuclear operations Group, Inc.;

Lynchburg, Virginia

[Docket No. 70-27; License No. SNM-42]

EA-2015-006

Confirmatory Order

I.

BWXT Nuclear Operations Group, Inc. (BWXT NOG or the licensee) is the operator of the BWXT Nuclear Operations Group-Lynchburg facility (BWXT NOG or the facility), and holder of License No. SNM-42 and Docket No.70-27 issued by the U.S. Nuclear Regulatory Commission (NRC or Commission) under Title 10, “Energy,” of the Code of Federal Regulations (10 CFR) Part 70, “Domestic Licensing of Special Nuclear Material.” The license authorizes the operation of the facility with the conditions specified therein. The facility is located on the licensee's site in Campbell County, Virginia.

II.

By application dated April 24, 2014, as supplemented by letters dated December 16, 2013, and July 25, 2014, BWXT NOG requested preemption authority, pursuant to Commission Order EA-13-092, under the provisions of Section 161A of the Atomic Energy Act of 1954, as amended. Section 161A confers on the Commission the authority to permit a licensee's security personnel to transfer, receive, possess, transport, import, and use certain firearms, ammunition or devices, notwithstanding local, State, and certain Federal firearms laws, including regulations, that may prohibit such conduct.

Upon review of the BWXT NOG application for Commission authorization to use Section 161A at BWXT NOG-L, the NRC staff has found the following:

(1) The BWXT NOG application complies with the standards and requirements of Section 161A and the Commission's rules and regulations set forth in 10 CFR part 73, “Physical Protection of Plants and Materials”;

(2) There is reasonable assurance that the facility will operate in conformance with the application; the provisions of the Atomic Energy Act of 1954, as amended; and the rules and regulations of the Commission;

(3) There is reasonable assurance that the activities permitted by the Commission authorization to use Section 161A preemption authority is consistent with the protection of public health and safety, and that such activities will be conducted in compliance with the Commission's regulations and the requirements of this Confirmatory Order;

(4) The issuance of Commission authorization to use Section 161A preemption authority will not be inimical to the common defense and security or to the health and safety of the public; and

(5) The issuance of this Commission authorization to use Section 161A preemption authority will be in accordance with the Commission's regulations in 10 CFR part 51, “Environmental Protection Regulations for Domestic Licensing and Related Regulatory Functions.”

The findings, set forth above, are supported by an NRC staff technical evaluation under Accession Number ML15044A450.

III.

To carry out the statutory authority discussed above, the Commission has determined that the license for BWXT NOG-L must be modified to include provisions with respect to the Commission authorization to use Section 161A preemption authority as identified in Section II of this Confirmatory Order. The requirements needed to exercise the foregoing are set forth in Section IV below.

The NRC staff has found that the license modifications set forth in Section IV are acceptable and necessary. It further concluded that, with the effective implementation of these provisions, the licensee's physical protection program will meet the specific physical protection program requirements set forth in 10 CFR 73.45, “Performance Capabilities for Fixed Site Physical Protection Systems”; in 10 CFR 73.46, “Fixed Site Physical Protection Systems, Subsystems, Components, and Procedures” (for facilities handling Category I special nuclear material).

On January 29, 2015, BWXT NOG consented to the issuance of this Order. The licensee further agreed that this Order will be effective 20 days after the date of issuance and that it has waived its right to a hearing on this Order.

IV

Accordingly, under Sections 53, 103 and/or 104b, 161b, 161i, 161o, 161A, 182, and 186 of the Atomic Energy Act of 1954, as amended, and the Commission's regulations in 10 CFR 2.202, “Orders” and 10 CFR part 70, IT IS HEREBY ORDERED that:

1. The BWXT NOG application for Commission authorization to use Section 161A preemption authority at B&W NOG is approved. This authorization does not grant B&W NOG authority to use enhanced weapons.

2. In accordance with 10 CFR part 73, the licensee shall review and revise its NRC-approved security plans or procedures, as necessary, to describe how the requirements of this Confirmatory Order will be met.

3. The licensee shall establish and maintain a program consistent with Commission Order EA-13-092 such that all security personnel who require access to firearms in the discharge of their official duties are subject to a firearms background check.

The Commission is engaged in an ongoing rulemaking to implement the Commission's authority under Section 161A. On the effective date of that final rulemaking, the Commission may take action to relax or rescind any or all of the requirements set forth in this Confirmatory Order.

The Director, Office of Nuclear Material Safety and Safeguards may, in writing, relax or rescind this Confirmatory Order upon demonstration by the licensee of good cause.

This Confirmatory Order is effective 20 days after the date of its issuance.

For further details with respect to this Confirmatory Order, see the staff's technical evaluation dated January 29, 2015 (Agencywide Documents Access and Management System (ADAMS) Accession No. ML15044A450), which is available for public inspection, at the Commission's Public Document Room (PDR), located at One White Flint North, Public File Area 01 F21, 11555 Rockville Pike (first floor), Rockville, Maryland. Publicly available documents created or received at the NRC are accessible electronically through ADAMS in the NRC Library at http://www.nrc.gov/reading-rm/adams.html. Persons who do not have access to ADAMS, or who encounter problems in accessing the documents located in ADAMS, should contact the NRC PDR reference staff by telephone at 1-800-397-4209 or 301-415-4737, or by email to pdr.resource@nrc.gov.

In accordance with 10 CFR 2.202, any other person adversely affected by this Order may submit an answer to this Order within 20 days of its publication in the Federal Register. In addition, any other person adversely affected by this Order may request a hearing on this Order within 20 days of its publication in the Federal Register. Where good cause is shown, consideration will be given to extending the time to answer or request a hearing. A request for extension of time must be directed to the Director, Office of Enforcement, U.S. Nuclear Regulatory Commission, and include a statement of good cause for the extension.

If a hearing is requested by a person whose interest is adversely affected, the Commission will issue an order designating the time and place of any hearings. If a hearing is held, the issue to be considered at such hearing shall be whether this Order should be sustained.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (published at 72 FR 49139 on August 28, 2007). The E-Filing process requires participants to submit and serve all adjudicatory documents over the internet, or (in some cases) to mail copies on electronic storage media. Participants may not submit paper copies of their filings unless they seek an exemption in accordance with the procedures described below.

To comply with the procedural requirements of E-Filing, the participant should contact the Office of the Secretary (at least 10 days before the filing deadline) by email to hearing.docket@nrc.gov, or by telephone at (301) 415-1677, to: (1) request a digital ID certificate, which allows the participants (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, web-based submission form. In order to serve documents through the Electronic Information Exchange, users will be required to install a web browser plug-in from the NRC Web site. Further information on the web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (pdf) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for, and receive, a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket, which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

If a person other than the licensee requests a hearing, that person shall set forth with particularity the manner in which his interest is adversely affected by this Order and shall address the criteria set forth in 10 CFR paragraphs 2.309(d) and (f).

In the absence of any request for hearing, or written approval of an extension of time in which to request a hearing, the provisions specified in Section IV above shall be final 20 days from the date of this Order without further order or proceedings. If an extension of time for requesting a hearing has been approved, the provisions specified in Section IV shall be final when the extension expires if a hearing request has not been received.

Dated at Rockville, Maryland this 10th day of August, 2015.

For the Nuclear Regulatory Commission.

Catherine Haney, Director,

Office of Nuclear Material Safety and Safeguards.

[FR Doc. 2015-21937 Filed 9-3-15; 8:45 am]

BILLING CODE 7590-01-P